DEPARTMENT OF AGRICULTURE

Forest Service

Request for Proposals: 2012 Hazardous Fuels Woody Biomass Utilization Grant Program

AGENCY: Forest Service, USDA.

ACTION: Notice; Correction.

SUMMARY: The Department of Agriculture (USDA), Forest Service, State and Private Forestry (S&PF), Technology Marketing Unit, located at the Forest Products Laboratory, published a document in the Federal Register of February 6, 2011, concerning requests for grant applications for wood energy projects that require engineering services. The document contained incorrect dates.

ADDRESSES: All applications must be sent to the respective Forest Service Regional Office listed below for initial review. These offices will be the point of contact for final awards.

Forest Service Region 1 (MT, ND, Northern ID & Northwestern SD), ATT: Angela Farr, USDA Forest Service, Northern Region (R1), Federal Building, 200 East Broadway, Missoula, MT 59807, afarr@fs.fed.us, (406) 329-3521. | Forest Service Region 2 (CO, KS, NE, SD, & WY), ATT: Susan Ford, USDA Forest Service, Rocky Mountain Region (R2), 740 Simms St., Golden, CO 80401-4702, sbford@fs.fed.us, (303) 275-5742.
Forest Service Region 3 (AZ & NM), ATT: Jerry Payne, USDA Forest Service, Southwestern Region (R3), 333 Broadway Blvd., SE., Albuquerque, NM 87102, jpayne01@fs.fed.us, (505) 842-3391. | Forest Service Region 4 (Southern ID, NV, UT, & Western WY), ATT: Scott Bell, USDA Forest Service, Intermountain Region (R4), Federal Building, 324 25th St., Ogden, UT 84401, sbell@fs.fed.us, (801) 625-5259.
Forest Service Region 5 (CA, HI, Guam and Trust Territories of the Pacific Islands), ATT: Larry Swan, USDA Forest Service, Pacific Southwest Region (R5), 1323 Club Drive, Vallejo, CA 95492-1110, lswan01@fs.fed.us, (707) 562-8917. | Forest Service Region 6 (OR & WA), ATT: Ron Saranich, USDA Forest Service, Pacific Northwest Region (R6), 333 SW 1st Ave., Portland, OR 97204, rsaranich@fs.fed.us, (503) 808-2346.
Forest Service Region 8 (AL, AR, FL, GA, KY, LA, MS, NC, OK, SC, TN, TX, VA, Virgin Islands & Puerto Rico), ATT: Dan Len, USDA Forest Service, Southern Region (R8), 1720 Peachtree Rd NW., Atlanta, GA 30309, dlen@fs.fed.us, (404) 347-4034. | Forest Service Region 9 (CT, DL, IL, IN, IA, ME, MD, MA, MI, MN, MO, NH, NJ, NY, OH, PA, RI, VT, WV, WI), ATT: Lew McCreery, Northeastern Area—S&PF, 180 Canfield St., Morgantown, WV 26505, lmccreery@fs.fed.us, (304) 285-1538.
Forest Service Region 10 (Alaska), ATT: Daniel Parrent, USDA Forest Service, Alaska Region (R10), 3301 C Street, Suite 202, Anchorage, AK 99503-3956, djparrent@fs.fed.us, (907) 743-9467. | Region 10 address after February 15, 2012: Forest Service Region 10 (Alaska), ATT: Daniel Parrent, USDA Forest Service, Alaska Region (R10), 161 East 1st Avenue, Door 8, Anchorage, AK 99501, djparrent@fs.fed.us, (907) 743-9467.

Detailed information regarding what to include in the application, definitions of terms, eligibility, and necessary prerequisites for consideration are available at www.fpl.fs.fed.us/tmu, and at www.grants.gov. Paper copies of the information are also available by contacting the Forest Service, S&PF Technology Marketing Unit, One Gifford Pinchot Dr., Madison, Wisconsin 53726-2398, 608-231-9504.

FOR FURTHER INFORMATION CONTACT: For questions regarding the grant application or administrative regulations, contact your appropriate Forest Service Regional Biomass Coordinator as listed in the addresses above or contact Susan LeVan-Green, Program Manager of the Technology Marketing Unit, Madison, WI (608) 231-9504, slevan@fs.fed.us. Individuals who use telecommunication devices for the deaf (TDD) may call the Federal Relay Service (FRS) at 1-800-877-8339 twenty-four hours a day, every day of the year, including holidays.

Correction

In the Federal Register of February 6, 2012, in FR DOC #2012-2545 on page 5756 in the third column, correct the DATES caption to read:

DATES: Monday April 2, 2012, Application Deadline.

Dated: February 16, 2012.
Robin L. Thompson,
Associate Deputy Chief, State and Private Forestry.

[FR Doc. 2012-4128 Filed 2-22-12; 8:45 am]

BILLING CODE 3410-11-P